FEDERAL COMMUNICATIONS COMMISSION

47 CFR Part 73

[MB Docket No. 08-85; RM-11427, RM-11517, RM-11518, RM-11519; DA 11-2059]

Radio Broadcasting Services; Ehrenberg, First Mesa, Kachina Village, Wickenburg, and Williams, AZ, and Needles, CA

AGENCY: Federal Communications Commission.

ACTION: Proposed rule; dismissal.

SUMMARY: The Audio Division dismisses a Petition for Rule Making filed by Michael Cusinato proposing the allotment of FM Channel 287B1 at Needles, California, as the community's fourth local transmission service, because no comments were received expressing an interest in the proposed allotment. See SUPPLEMENTARY INFORMATION.

ADDRESSES: Secretary, Federal Communications Commission, 445 Twelfth Street SW., Washington, DC 20554.

FOR FURTHER INFORMATION CONTACT: Rolanda F. Smith or Andrew J. Rhodes, Media Bureau, (202) 418-2054.

SUPPLEMENTARY INFORMATION: This is a synopsis of the Commission's Report and Order, MB Docket No. 08-85, adopted December 21, 2011, and released December 23, 2011. The full text of this Commission decision is available for inspection and copying during normal business hours in the FCC's Reference Information Center at Portals II, CY-A257, 445 Twelfth Street SW., Washington, DC 20554. This document may also be purchased from the Commission's duplicating contractors, Best Copy and Printing, Inc., 445 12th Street SW., Room CY-B402, Washington, DC 20554, telephone 1-(800) 378-3160 or via email www.BCPIWEB.com. The Commission will not send a copy of this Report and Order pursuant to the Congressional Review Act, see 5 U.S.C. 801(a)(1)(A), because this proceeding is terminated without the adoption of any rules.

This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of l980 do not apply to this proceeding.

Although the Public Notice accepted two separate petitions for rule making as counterproposals in this proceeding, the Report and Order finds that these related proposals should not be considered as counterproposals because they are not mutually exclusive with the Needles allotment proposed in the Notice of Proposed Rule Making in this proceeding. See Public Notice, Report No. 2883, March 10, 2009. Instead we will consider these proposals filed by Rocket Radio, Inc. (RM-11517) and Univision Radio License Corporation (RM-11518), which are mutually exclusive with each other, in a separate FM rule making proceeding in MB Docket No. 11-207. For information regarding proper filing procedures for comments, see 47 CFR 1.415 and 1.420.

List of Subjects in 47 CFR Part 73

Radio.

Federal Communications Commission.
Nazifa Sawez,
Assistant Chief, Audio Division, Media Bureau.

[FR Doc. 2012-717 Filed 1-13-12; 8:45 am]

BILLING CODE 6712-01-P